DEPARTMENT OF TRANSPORTATION

Federal Aviation Administration

14 CFR Part 71

[Docket No. FAA-2020-0189; Airspace Docket No. 19-AGL-2]

RIN 2120-AA66

Proposed Amendment of V-55, V-271, T-215, and T-265, and Revocation of V-215 and V-450 in the Vicinity of Muskegon, MI

AGENCY: Federal Aviation Administration (FAA), DOT.

ACTION: Notice of proposed rulemaking (NPRM).

SUMMARY: This action proposes to amend two VHF Omnidirectional Range (VOR) Federal airways, V-55 and V-271; amend two low altitude Area Navigation (RNAV) routes, T-215 and T-265; and remove two VOR Federal airways, V-215 and V-450, in the vicinity of Muskegon, MI. The air traffic service (ATS) route modifications are necessary due to the planned decommissioning of the VOR portion of the Muskegon, MI, VOR/Tactical Air Navigation (VORTAC) navigation aid (NAVAID). The NAVAID provides navigation guidance for portions of the affected ATS routes. This VOR is being decommissioned as part of the FAA's VOR Minimum Operational Network (MON) program.

DATES: Comments must be received on or before May 7, 2020.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2020-0189; Airspace Docket No. 19-AGL-2 at the beginning of your comments. You may also submit comments through the internet at https://www.regulations.gov. FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0189; Airspace Docket No. 19-AGL-2) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0189; Airspace Docket No. 19-AGL-2.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The FAA is planning decommissioning activities for the VOR portion of the Muskegon, MI, VORTAC in September, 2020. The VOR portion of the Muskegon NAVAID is a candidate VOR identified for discontinuance by the FAA's VOR MON program and listed in the final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Muskegon, MI, VORTAC is planned for decommissioning, the co-located DME portion of the NAVAID is being retained.

The ATS route dependencies to the Muskegon VORTAC are VOR Federal airways V-55, V-215, V-271, and V-450. However, as result of the proposed amendments to those airways, this action also addresses proposed amendments to RNAV routes T-217 and T-265.

With the planned decommissioning of the VOR portion of the Muskegon VORTAC, the remaining ground-based NAVAID coverage in the area is insufficient to enable the continuity of the affected VOR Federal airways. As such, proposed modifications to the affected VOR Federal airways would result in gaps in two of the airways, V-55 and V-271, and revocation of the other two airways, V-215 and V-450. To overcome the airway gaps and revocations, instrument flight rules (IFR) traffic could use adjacent ATS routes, including V-26, V-30, V-133, V-193, V-217, V-285, and V-420, to circumnavigate the affected area. IFR traffic could also file point to point through the affected area using existing airway fixes that will remain in place, as well as adjacent NAVAIDs, or receive air traffic control (ATC) radar vectors through the area. Visual flight rules pilots who elect to navigate via the airways through the affected area could also take advantage of the adjacent VOR Federal airways or ATC services listed previously.

Further, the FAA proposes to extend RNAV routes T-217 and T-265 through the affected area, with minor editorial amendments to the descriptions, to continue supporting enroute airspace users, as well as ongoing FAA NextGen efforts to transition the national airspace system to one of performance-based navigation. The editorial amendments to the existing T-217 and T-265 descriptions would not change the route structure, operational use, or charted depiction of the routes.

The Proposal

The FAA is proposing an amendment to Title 14 Code of Federal Regulations (14 CFR) part 71 to modify VOR Federal airways V-55 and V-271, modify low altitude RNAV routes T-217 and T-265, and remove VOR Federal airways V-215 and V-450. The planned decommissioning of the VOR portion of the Muskegon, MI, VORTAC has made this action necessary. The proposed VOR Federal airway changes are outlined below.

V-55: V-55 currently extends between the Dayton, OH, VOR/Distance Measuring Equipment (VOR/DME) and the intersection of the Green Bay, WI, VORTAC 270° and Oshkosh, WI, VORTAC 339° radials (BIPID fix); between the Eau Claire, WI, VORTAC and the Siren, WI, VOR/DME; and between the Park Rapids, MN, VOR/DME and the Bismarck, ND, VOR/DME. The FAA proposes to remove the airway segment between the Pullman, MI, VOR/DME and the intersection of the Green Bay, WI, VORTAC 270° and Oshkosh, WI, VORTAC 339° radials (BIPID fix). Additional changes to other portions of the airway have been proposed in a separate NPRM. The unaffected portions of the existing airway would remain as charted.

V-215: V-215 currently extends between the intersection of the Muskegon, MI, VORTAC 208° and Pullman, MI, VOR/DME 261° radials (JYBEE fix) and the Gaylord, MI, VOR/DME. The FAA proposes to remove the airway in its entirety.

V-271: V-271 currently extends between the Muskegon, MI, VORTAC and the Escanaba, MI, VOR/DME. The FAA proposes to remove the airway segment between the Muskegon, MI, VORTAC and the Manistee, MI, VOR/DME. The unaffected portions of the existing airway would remain as charted.

V-450: V-450 currently extends between the Escanaba, MI, VOR/DME and the Flint, MI, VORTAC. The FAA proposes to remove the airway in its entirety.

The proposed low altitude RNAV route changes are outlined below.

T-217: T-217 currently extends between the Lexington, KY, VOR/DME and the BONEE, OH, fix. The FAA proposes to extend the route northwestward from the BONEE, OH, fix to the GAYLE, MI, waypoint. The extension of T-217 would replace the loss of a portion of V-450 west of the Muskegon VORTAC. Additionally, the type of NAVAID facility for the Lexington, KY, route point would be corrected from “VORTAC” to “VOR/DME” and the geographic coordinates of each of the new route points would be expressed in degrees, minutes, seconds, and hundredths of a second.

T-265: T-265 currently extends between the AHMED, IL, fix and the VEENA, WI, fix. The FAA proposes to amend the existing route and extend it eastward and northward so the route would begin at the JAYBE, WI, fix and end at the PINES, MI, waypoint. The extension of T-265 would establish enroute low altitude structure to overcome the loss of the V-55 airway segment south of the Muskegon VORTAC and the loss of the V-215 airway segments north of the Muskegon VORTAC. Additionally, the geographic coordinates of each route point would be expressed in degrees, minutes, seconds, and hundredths of a second.

The radials listed in the VOR Federal airway V-55 description below are unchanged and stated in True degrees.

VOR Federal airways are published in paragraph 6010(a) and low altitude RNAV T-routes are published in paragraph 6011 of FAA Order 7400.11D dated August 8, 2019, and effective September 15, 2019, which is incorporated by reference in 14 CFR 71.1. The ATS routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-55 [Amended]

From Dayton, OH; Fort Wayne, IN; Goshen, IN; Gipper, MI; Keeler, MI; to Pullman, MI. From Eau Claire, WI; to Siren, WI. From Park Rapids, MN; Grand Forks, ND; INT Grand Forks 239° and Bismarck, ND, 067° radials; to Bismarck.

* * * * *

V-215 [Removed]

* * * * *

V-271 [Amended]

From Manistee, MI; to Escanaba, MI.

* * * * *

V-450 [Removed]

* * * * *

6011. United States Area Navigation Routes

* * * * *

T-217 Lexington, KY (HYK) to GAYLE, MI [Amended]
Lexington, KY (HYK) | VOR/DME | (Lat. 37°57′58.86″ N, long. 84°28′21.06″ W)
BOSTR, OH | FIX | (Lat. 38°53′08.13″ N, long. 84°04′58.02″ W)
HEDEN, OH | FIX | (Lat. 39°16′44.88″ N, long. 84°02′02.37″ W)
PRUDE, OH | FIX | (Lat. 39°25′44.92″ N, long. 83°56′58.60″ W)
Springfield, OH (SGH) | DME | (Lat. 39°50′11.55″ N, long. 83°50′41.84″ W)
BONEE, OH | FIX | (Lat. 40°03′08.85″ N, long. 83°56′56.15″ W)
SJAAY, IN | WP | (Lat. 40°58′44.05″ N, long. 85°11′17.17″ W)
DERRF, IN | WP | (Lat. 41°39′56.73″ N, long. 85°23′58.59″ W)
GETCH, MI | WP | (Lat. 43°10′07.15″ N, long. 86°03′03.06″ W)
GAYLE, MI | WP | (Lat. 43°29′37.62″ N, long. 87°00′13.08″ W)

* * * * *

T-265 JAYBE, WI to PINES, MI [Amended]
JAYBE, WI | FIX | (Lat. 42°38′39.36″ N, long. 88°38′19.60″ W)
GRIFT, IL | WP | (Lat. 42°17′28.14″ N, long. 88°53′41.42″ W)
START, IL | WP | (Lat. 41°45′24.83″ N, long. 89°00′21.81″ W)
MEITZ, IL | FIX | (Lat. 41°23′30.87″ N, long. 88°38′53.19″ W)
COYAP, IL | WP | (Lat. 41°13′26.93″ N, long. 87°41′20.30″ W)
MAPPS, IN | WP | (Lat. 41°10′53.94″ N, long. 86°56′32.63″ W)
KLROY, IN | WP | (Lat. 41°19′19.37″ N, long. 86°38′57.44″ W)
SMUUV, MI | WP | (Lat. 42°27′58.77″ N, long. 86°07′38.37″ W)
GETCH, MI | WP | (Lat. 43°10′07.15″ N, long. 86°03′03.06″ W)
LADIN, MI | WP | (Lat. 44°22′25.44″ N, long. 85°09′38.61″ W)
CARGA, MI | WP | (Lat. 44°38′28.29″ N, long. 84°58′15.15″ W)
BUDHA, MI | WP | (Lat. 44°58′24.33″ N, long. 84°45′23.22″ W)
RONDO, MI | WP | (Lat. 45°16′43.24″ N, long. 84°31′06.32″ W)
PINES, MI | WP | (Lat. 46°01′49.61″ N, long. 84°29′12.25″ W)

* * * * *

Issued in Washington, DC, on March 11, 2020.
Scott M. Rosenbloom,
Acting Manager, Rules and Regulations Group.

[FR Doc. 2020-05858 Filed 3-20-20; 8:45 am]

BILLING CODE 4910-13-P